DEPARTMENT OF STATE

[Public Notice: 11721]

U.S. Department of State Advisory Committee on Private International Law: Notice of Annual Meeting

The Department of State's Advisory Committee on Private International Law (ACPIL) will hold its annual meeting in hybrid format on Friday June 3, 2022. The meeting will be held at the George Washington (GW) Law School, Law Learning Center, Washington, DC 20052. The program is scheduled to run from 9:00 a.m. to 4:00 p.m.

The meeting will include an update on private international law work over the last year, including a presentation and discussion on several secured transactions projects underway at UNIDROIT. We will also discuss treaty priorities and developments, as well as the upcoming Special Commission on the Hague Adoption Convention. If time allows other topics of interest may be discussed.

Time and Place: The meeting will take place on Friday June 3, 2022, from 9 a.m. until 4 p.m. via a hybrid format at George Washington (GW) Law School, Law Learning Center, 2023 G St. NW, Washington, DC 20052. Those who cannot participate by either format but wish to comment are welcome to do so by email to Sharla Draemel at pil@state.gov.

Public Participation: This meeting is open to the public. Anyone attending in-person will be required to show a vaccination card and wear a mask pursuant to COVID protocols at GW Law School. Priority for in-person seating will be given to members of the Advisory Committee, and remaining seating will be reserved based upon when persons contact pil@state.gov. Those planning to attend should provide their name, affiliation and contact information to pil@state.gov no later than May 23, 2022, stating in their response whether they will attend in-person or virtually. Room information for in-person attendance and a Zoom link for virtual attendance will be provided following registration. A member of the public needing reasonable accommodation should notify pil@state.gov not later than May 23, 2022. Requests made after that date will be considered but might not be able to be fulfilled. A more detailed agenda will be available to registered participants in advance of the meeting. Persons who wish to have their views considered are encouraged, but not required, to submit written comments in advance. Comments should be sent electronically to pil@state.gov. When you register, please indicate whether attending in-person or via Zoom and require captioning.

Kevin E. Bryant,
Deputy Director, Office of Directives Management, Department of State.

[FR Doc. 2022-09319 Filed 4-29-22; 8:45 am]

BILLING CODE 4710-08-P